SECURITIES AND EXCHANGE COMMISSION

[Release No. 34-78953; File No. SR-NYSE-2016-11]

Self-Regulatory Organizations; New York Stock Exchange LLC; Notice of Withdrawal of a Proposed Change, as Modified by Amendment Nos. 1 and 2, Establishing Fees Relating to End Users and Amending the Definition of “Affiliate,” as Well as Amending the NYSE Price List To Reflect the Changes

September 27, 2016.

On April 4, 2016, New York Stock Exchange LLC (the “Exchange” or “NYSE”) filed with the Securities and Exchange Commission (“Commission”), pursuant to Section 19(b)(1) of the Securities Exchange Act of 1934 (“Act”) ¹ and Rule 19b-4 thereunder,² a proposed rule change to amend the co-location section of the NYSE Price List to establish fees relating to end users of certain co-location Users in the Exchange's data center and to amend the definition of “Affiliate.” The Commission published the proposed rule change for comment in the Federal Register on April 22, 2016.³ On April 29, 2016, the Exchange filed Amendment No. 1 to the proposed rule change.⁴ The Commission received two comment letters on the proposed rule change.⁵ On June 8, 2016, the Commission extended the time period within which to approve the proposed rule change, disapprove the proposed rule change, or institute proceedings to determine whether to approve or disapprove the proposed rule change to July 21, 2016.⁶ On June 24, 2016, the Exchange submitted a Response Letter and filed Amendment No. 2 to the proposed rule change. ⁷ On July 27, 2016, the Commission instituted proceedings pursuant to Exchange Act Section 19(b)(2)(B) to determine whether to approve or disapprove the proposed rule change, as modified by Amendment Nos. 1 and 2.⁸ The Commission received no additional comments on the proposed rule change.

¹ 15 U.S.C. 78s(b)(1).

² 17 CFR 240.19b-4.

³ See Securities Exchange Act Release No. 34-77642 (April 18, 2016), 81 FR 23786 (“Notice”).

⁴ Amendment No. 1 made technical changes relating to the General Notes numbering and references in the Co-location section of the Price List. Amendment No. 1 is available on the Commission's Web site at https://www.sec.gov/comments/sr-nyse-2016-11/nyse201611-1.pdf.

⁵ See Letter from Michael Friedman, General Counsel and Chief Compliance Officer, Trillium, to Brent J. Fields, Secretary, Securities and Exchange Commission, dated May 13, 2016 (“Friedman Letter”), and Letter from Eero Pikat to Brent J. Fields, Secretary, Securities and Exchange Commission, dated, May 13, 2016 (“Pikat Letter”) (together, the “Comment Letters,”).

In response to the Comment Letters, the NYSE submitted a response (“Response Letter”) and filed Amendment No. 2.

⁶ See Securities Exchange Act Release No. 34-77976 (June 2, 2016), 81 FR 36981.

⁷ In Amendment No. 2 the Exchange proposed that Rebroadcasting Users and Transmittal Users would not be charged for their first two Multicast End Users and Unicast End Users, respectively, and offers additional support for the proposal. Amendment No. 2 was noticed in the Commission's Order Instituting Proceedings and is also available on the Commission's Web site at https://www.sec.gov/comments/sr-nyse-2016-11/nyse201611-4.pdf.

⁸ See Securities Exchange Act Release No. 34-78387 (July 21, 2016); 81 FR 49300.

On September 22, 2016, the Exchange withdrew the proposed rule change, as modified by Amendment Nos. 1 and 2. (SR-NYSE-2016-11).

For the Commission, by the Division of Trading and Markets, pursuant to delegated authority.⁹
⁹ 17 CFR 200.30-3(a)(12).
Robert W. Errett,
Deputy Secretary.

[FR Doc. 2016-23754 Filed 9-30-16; 8:45 am]

BILLING CODE 8011-01-P